DEPARTMENT OF THE INTERIOR

Bureau of Safety and Environmental Enforcement (BSEE)

[Docket ID BSEE-2016-0013; OMB Control Number 1014-0026; 17XE1700DX EEEE500000 EX1SF0000.DAQ000]

Information Collection Activities: Application for Permit To Modify (APM) and Supporting Documentation; Submitted for Office of Management and Budget (OMB) Review; Comment Request

ACTION: 30-Day notice.

SUMMARY: To comply with the Paperwork Reduction Act of 1995 (PRA), the Bureau of Safety and Environmental Enforcement (BSEE) is notifying the public that we have submitted to OMB an information collection request (ICR) to renew approval of the paperwork requirements in the regulations, Oil and Gas and Sulfur Operations in the Outer Continental Shelf, pertaining to an Application for Permit to Modify (APM) and supporting documentation. This notice also provides the public a second opportunity to comment on the revised paperwork burden of these regulatory requirements.

DATES: You must submit comments by April 14, 2017.

ADDRESSES: Submit comments by either fax (202) 395-5806 or email (OIRA_Submission@omb.eop.gov) directly to the Office of Information and Regulatory Affairs, OMB, Attention: Desk Officer for the Department of the Interior (1014-0026). Please provide a copy of your comments to BSEE by any of the means below.

• Electronically go to http://www.regulations.gov. In the Search box, enter BSEE-2016-0013 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference ICR 1014-0026 in your comment and include your name and return address.

FOR FURTHER INFORMATION CONTACT: Nicole Mason, Regulations and Standards Branch, (703) 787-1607, to request additional information about this ICR. To see a copy of the entire ICR submitted to OMB, go to http://www.reginfo.gov (select Information Collection Review, Currently Under Review).

SUPPLEMENTARY INFORMATION:

Title: 30 CFR 250, Application for Permit to Modify (APM) and all supporting documentation.

Form(s): BSEE-0124.

OMB Control Number: 1014-0026.

Abstract: The Outer Continental Shelf (OCS) Lands Act at 43 U.S.C. 1334 authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BSEE is required to charge fees for services that provide special benefits or privileges to an identifiable non-Federal recipient above and beyond those which accrue to the public at large. Applications for permits to modify approvals are subject to cost recovery, and BSEE regulations specify service fees for these requests.

These authorities and responsibilities are among those delegated to BSEE. The regulations at 30 CFR 250 stipulate the various requirements that must be submitted with form BSEE-0124, Application for Permit to Modify (APM). The form and the numerous submittals that are included and/or attached to the form are the subject of this collection. This request also covers any related Notices to Lessees and Operators (NTLs) that BSEE issues to clarify, supplement, or provide additional guidance on some aspects of our regulations.

The changes to the form in this ICR include updating the citations listed under No. 18; as well as, adding several additional questions (G through M) pertaining to shearing data, BOP testing, casing pressure issues, etc. Responses are mandatory and no questions of a sensitive nature are asked. The BSEE will protect any confidential commercial or proprietary information according to the Freedom of Information Act (5 U.S.C. 552) and DOI's implementing regulations (43 CFR 2); section 26 of OCSLA (43 U.S.C. 1352); 30 CFR 250.197, Data and information to be made available to the public or for limited inspection; and 30 CFR part 252, OCS Oil and Gas Information Program.

The BSEE uses the information on the APM form (BSEE-0124) to ensure the well completion, workover, and decommissioning unit is fit for the intended purpose; equipment is maintained in a state of readiness and meets safety standards; each well completion, workover, and decommissioning crew is properly trained and able to promptly perform well-control activities at any time during well operations; and compliance with safety standards. The current regulations provide for safe and proper field or reservoir development, resource evaluation, conservation, protection of correlative rights, safety, and environmental protection. We also review well records to ascertain whether the operations have encountered hydrocarbons or H2S and to ensure that H2S detection equipment, personnel protective equipment, and training of the crew are adequate for safe operations in zones known to contain H2S and zones where the presence of H2S is unknown. The information on the form is as follows:

Heading: Identify the well name, lease operator, type of revision and timing of the proposed modifications.

Well at Total Depth/Surface: Identify the unique location (area, block and lease of the proposed activity).

Proposed or Completed Work: Information identifying the specific activity, revision or modification for which approval is requested. This includes specific identification of equipment, engineering, and pressure test data needed by BSEE to ascertain that operations will be conducted in a manner that ensures the safety of personnel and protection of the environment.

Question Information: Responses to questions (a) through (m) serve to ascertain compliance with applicable BSEE regulations and requirements and adherence to good operating practices.

Frequency: On occasion and as required by regulations.

Description of Respondents: Potential respondents comprise Federal OCS oil, gas, or sulfur lessees and/or operators.

Estimated Reporting and Recordkeeping Hour Burden: The estimated annual hour burden for this information collection is a total of 17,386 hours and $308,500 non-hour cost. The following chart details the individual components and estimated hour burdens. In calculating the burdens, we assumed that respondents perform certain requirements in the normal course of their activities. We consider these to be usual and customary and took that into account in estimating the burden.

Burden Breakdown
Citation 30 CFR 250 APM's | Reporting or recordkeeping requirement * | Hour burden | Average number of annual responses | Annual burden hours (rounded)
| Non-hour cost burdens
Subparts D, E, F, G, H, P, Q | Submit APM plans (BSEE-0124). (This burden represents only the filling out of the form, the requirements are listed separately below) | 1 hour | 2,468 applications | 2,468.
|  | 2,468 applications × $125 application fee = $308,500.
Subparts D, E, F, G, H, P, Q | Submit Revised APM plans (BSEE-0124). (This burden represents only the filling out of the form, the requirements are listed separately below) [no fee charged] | 1 hour | 1,284 applications | 1,284.
Subtotal |  |  | 3,752 responses | 3,752 hour burdens.
|  |  | $308,500 non-hour cost burdens.
Subpart A
125 | Submit evidence of your fee for services receipt | Exempt under 5 CFR 1320.3(h)(1). |  | 0.
197 | Written confidentiality agreement | Exempt under 5 CFR 1320.5(d)(2). |  | 0.
Subpart C
300(b)(1), (2) | Obtain approval to add petroleum-based substance to drilling mud system or approval for method of disposal of drill cuttings, sand, & other well solids, including those containing NORM | 154 hours | 1 request | 154.
Subtotal of Subpart C |  |  | 1 response | 154 hour burdens.
Subpart D
460(a); 465 | There are some regulatory requirements that give respondents the option of submitting information with either their APD or APM; industry advised us that when it comes to this particular subpart, they submit a Revised APD | Burden covered under 30 CFR 250, 1014-0025. |  | 0.
471(c) | Submit SCCE capabilities for Worst Case Discharge (WCD) rate, and demonstrate that your SCCE capabilities will meet the criteria in § 250.470(f) under the changed well design. (Arctic) | 10 hours | 2 submittals | 20.
Subtotal of Subpart D |  |  | 2 responses | 20 hour burdens.
Subpart E
513 | Obtain written approval for well-completion operations. Submit information, including but not limited to, request for completion (including changes); description of well-completion procedures; statement of expected surface pressure, type and weight of completion fluids; schematic drawing; a partial electric log; H2S presence or if unknown, service fee receipt | 1 hour | 175 submittals | 175.
518(f) | Submit descriptions and calculations of production packer setting depth(s) | 1 hour | 50 submittals | 50.
526(a) | Submit a notification of corrective action of the diagnostic test | 15 mins | 68 notifications | 17.
Subtotal of Subpart E |  |  | 293 responses | 242 hour burdens.
Subpart F
613(a), (b) | Request approval to begin other than normal workover, which includes description of procedures, changes in equipment, schematic, info about H2S, etc | 1 hour | 802 requests | 802.
613(c) | If completing a new zone, submit reason for abandonment and statement of pressure data | 20 mins | 195 submittals | 65.
613(d) | Submit work as performed 30 days after completing the well-workover operation | 20 mins | 755 submittals | 252.
616(a)(4) | Obtain approval to conduct operations without downhole check valves, describe alternate procedures and equipment to conduct operations without downhole check valves | 45 mins | 245 approvals | 184.
619(f) | Submit descriptions and calculations of production packer setting depth(s) | 1 hour | 50 submittals | 50.
Subtotal of Subpart F |  |  | 2,047 responses | 1,353 hour burdens.
Subpart G
701 | Identify and discuss your proposed alternate procedures or equipment [the request to use alternative procedures/equipment is covered under 1014-0022] | 3 hours | 78 submittals | 234.
702 | Identify and discuss the departure from requirements [the request to depart from requirements is covered under 1014-0022] | 2 hours | 55 submittals | 110.
713 | Submit required information to use a MODU for well operations, including fitness & foundation requirements, contingency plan for moving off location, current monitoring (description of specific current speeds & specific measures to curtail rig operations and move off location) | 1.5 hours | 210 submittals | 315.
720(b) | Obtain approval to displace kill weight fluid with detailed step-by-step written procedures that include, but are not limited to, number of barriers, tests, BOP procedures, fluid volumes entering and leaving wellbore procedures | 1.5 hours | 151 submittals | 227.
721(g) | Request approval for test procedures and criteria for a successful negative pressure test, including any changes | 1 hour | 380 requests | 380.
724(b) | Submit certification that you have a real-time monitoring plan that meets the criteria listed | 125 | 1 certification | 125.
731 | Submit complete description of BOP system and components; schematic drawings; certification by BAVO (additional BAVO if BOP is subsea, in HTHP, or surface on floating facility); autoshear, deadman, EDS systems; certification for MIA report | 5 hours | 260 submittals | 1,300.
733 | Description of annulus monitoring plan and how you will secure the well in the event a leak is detected | 30 mins | 248 submittals | 124.
737(d)(2) | Submit test procedures for District Manager approval for initial test when using water on surface BOP | 30 mins | 48 submittals | 24.
737(d)(3) | Submit test procedures for District Manager approval to stump test a subsea BOP; including how you will test each ROV function for approval | 30 mins | 45 submittals | 23.
737(d)(4) | Submit test procedures for District Manager approval to perform an initial subsea BOP test; including how you will test each ROV function for approval | 30 mins | 48 submittals | 24.
737(d)(12) | Submit test procedures for District Manager approval, including schematics of the actual controls and circuitry of the system used during an actual autoshear or deadman event | 1 hour | 260 submittals | 260.
738(m) | Request approval from District Manager to utilize other well-control equipment; include report from BAVO on equipment design & suitability; other information required by District Manager | 2 hour | 311 requests | 622.
738(n) | Indicate which pipe/variable bore rams have no current utility or well-control purposes | 45 mins. | 261 submittals | 196.
Subtotal of Subpart G |  |  | 2,356 responses | 3,964 hour burdens.
Subpart H
801(h) | Request approval to temporarily remove safety device for non-routine operations | 30 mins | 52 approvals | 26.
804(a) | Submit detailed information that demonstrates the SSSVs and related equipment capabilities re HPHT; include discussions of design verification analysis and validation, functional listing process, and procedures used; explain fit-for-service | 1 hour | 18 submittals | 18.
Subtotal of Subpart H |  |  | 70 responses | 44 hour burdens.
Subpart P
It needs to be noted that for Sulfur Operations, while there may be burden hours listed that are associated with some form of an APM submittal, we have not had any sulfur leases for numerous years, therefore, we are submitting minimal burden.
1618(a), (b), (c) | Request approval/submit requests for changes in plans, changes in major drilling equipment, proposals to deepen, sidetrack, complete, workover, or plug back a well, or engage in similar activities; include but not limited to, detailed statement of proposed work changed; present state of well; after completion, detailed report of work done and results w/in 30 days of completion; public information copies | 1 hour | 1 plan | 1.
1619(b) | Submit duplicate copies of the records of all activities related to and conducted during the suspension or temporary prohibition | 25 mins | 1 submittal | 1.
1622(a), (b) | Obtain written approval to begin operations; include description of procedures followed; changes to existing equipment, schematic drawing; zones info re H2S, etc | 20 mins | 1 approval | 1.
1622(c)(2) | Submit results of any well tests and a new schematic of the well if any subsurface equipment has been changed | 10 mins | 1 submittal | 1.
Subtotal of Subpart P |  |  | 4 responses | 4 hour burdens.
Subpart Q
1704 | Request approval of well abandonment operations | 20 mins | 705 requests | 235.
1704(g) | Submit with a final well schematic, description, nature and quantities of material used; relating to casing string—description of methods used, size and amount of casing and depth | 1 hour | 430 submittals | 430.
1706(a)(4) | Request approval to conduct operations without downhole check valves, describe alternate procedures and equipment | 15 mins | 503 requests | 126.
1712; 1704(g) | Obtain and receive approval before permanently plugging a well or zone. Include in request, but not limited to, reason plugging well, with relevant information; well test and pressure data; type and weight of well control fluid; a schematic listing mud and cement properties; plus testing plans. Submit Certification by a Registered Professional Engineer of the well abandonment design and procedures; certify the design | 2.5 hours | 251 certifications | 628.
| Obtain and receive approval before permanently plugging a well or zone. Include in request, but not limited to max surface pressure and determination; description of work; well depth, perforated intervals; casing and tubing depths/details, plus locations, types, lengths, etc | 2.5 hours | 438 submittals | 1,095.
1721; 1704(g) | Submit the applicable information required to temporarily abandon a well for approval; after temporarily plugging a well, submit well schematic, description of remaining subsea wellheads, casing stubs, mudline suspension equipment and required information of this section; submit certification by a Registered Professional Engineer of the well abandonment design and procedures; certify design | 4 hours | 1,278 submittals | 5,112.
1722(a), (d) | Request approval to install a subsea protective device | 1 hour | 18 requests | 18.
| Submit a report including dates of trawling test and vessel used; plat showing trawl lines; description of operation and nets used; seafloor penetration depth; summary of results listed in this section; letter signed by witness of test | 2 hours | 18 submittals | 36.
1723(b) | Submit a request to perform work to remove casing stub, mudline equipment, and/or subsea protective covering | 1 hour | 161 requests | 161.
1743(a) | Submit signed certification; date of verification work and vessel; area surveyed; method used; results of survey including debris or statement that no objects were recover; a post-trawling plot or map showing area | 2 hours | 6 certifications | 12.
Subtotal of Subpart Q |  |  | 3,808 responses | 7,853 hour burdens.
Total Burden |  |  | 12,333 annual responses | 17,386 annual burden hours.
| $308,500 non-hour cost burdens.
* In the future, BSEE may require electronic filing of some submissions.

Estimated Reporting and Recordkeeping Non-Hour Cost Burden: We have identified one non-hour cost burden associated with the collection of information for a total of $308,500. The service fee of $125 is required to recover the Federal Government's processing costs of the APM. We have not identified any other non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on September 22, 2106, we published a Federal Register notice (81 FR 65405) announcing that we would submit this ICR to OMB for approval. The notice provided the required 60-day comment period. In addition, § 250.199 provides the OMB Control Number for the information collection requirements imposed by the 30 CFR 250 regulations and forms. The regulation also informs the public that they may comment at any time on the collections of information and provides the address to which they should send comments. We received no comments in response to the Federal Register notice, nor did we receive any unsolicited comments.

Public Availability of Comments: Before including your address, phone number, email address, or other personal identifying information in your comment, you should be aware that your entire comment—including your personal identifying information—may be made publicly available at any time. While you can ask us in your comment to withhold your personal identifying information from public review, we cannot guarantee that we will be able to do so.

BSEE Information Collection Clearance Officer: Nicole Mason, (703) 787-1607.

Dated: February 7, 2017.
Eric Miller,
Acting Deputy Chief, Office of Offshore Regulatory Programs.

[FR Doc. 2017-05143 Filed 3-14-17; 8:45 am]

BILLING CODE 4310-VH-P